DEPARTMENT OF TRANSPORTATION

Federal Highway Administration

Notice of Final Federal Agency Actions on Transportation Project in Washington State

AGENCY: Federal Highway Administration (FHWA), Department of Transportation (DOT).

ACTION: Notice of limitation on claims for judicial review of actions by FHWA.

SUMMARY: This notice announces actions taken by the FHWA that are final. The action relates to the Central Puget Sound Regional Transit Authority (Sound Transit) plans to build and operate a light rail Operations and Maintenance Facility in its South Corridor (OMF South). The facility will meet Sound Transit's needs for an expanded fleet of light rail vehicles (LRVs) and will support the expansion of the Link light rail system. The Federal Transit Administration (FTA) project is located in the City of Federal Way in King County, in the State of Washington, and is adjacent to the Interstate 5 (I-5) right-of-way. Portions of OMF South will be accommodated within or will affect the I-5 right-of-way, which requires Federal Highway Administration (FHWA) approval.

DATES: A claim seeking judicial review of the Federal agency actions on the listed highway project will be barred unless the claim is filed on or before February 10, 2025. If the Federal law that authorizes judicial review of a claim provides a time period of less than 150 days for filing such claim, then that shorter time period still applies.

FOR FURTHER INFORMATION CONTACT: Lindsey Handel, Urban Engineer, Federal Highway Administration, 360-753-9480, or Washington.FHWA@dot.gov or Erin Littauer, Federal Transit Administration, 206-2220-7521 or erin.littauer@dot.gov; Erin Green, Sound Transit Environmental Manager, South Corridor, (206) 398-5464 or Erin.Green@soundtransit.org.

SUPPLEMENTARY INFORMATION: Information about the NEPA Record of Decision and associated records are available from FHWA, FTA, and Sound Transit at the addresses provided above and can be found at: https://www.soundtransit.org/system-expansion/operations-maintenance-facility-south. This notice applies to all Federal agency decisions related to the Record of Decision as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Endangered Species Act [16 U.S.C. 1531-1544 and 1536]. Fish and Wildlife Coordination Act [16 U.S.C. 661-667(d)]. Migratory Bird Treaty Act [16 U.S.C. 703-712]. Bald and Golden Eagle Protection Act [16 U.S.C. 668-668c]. Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)];

6. Social and Economic: Civil Rights Act of 1964 [42 U.S.C. 2000d et seq.]; Farmland Protection Policy Act [7 U.S.C. 4201-4209].

7. Wetlands and Water Resources: Clean Water Act (section 319, section 401, section 402, section 404) [33 U.S.C. 1251-1377]. Safe Drinking Water Act [42 U.S.C. 300(f) et seq.].

8. Executive Orders: Executive Order 11990 Protection of Wetlands; Executive Order 11988 Floodplain Management; Executive Order 12898 Federal Actions to Address Environmental Justice in Minority Populations and Low-Income Populations; Executive Order 11593 Protection and Enhancement of Cultural Resources; Executive Order 13007 Indian Sacred Sites; Executive Order 13287 Preserve America; Executive Order 13175 Consultation and Coordination with Indian Tribal Governments; Executive Order 11514 Protection and Enhancement of Environmental Quality; Executive Order 13112 Invasive Species; Executive Order 13166 Improving Access to Services for Persons with Limited English Proficiency; Executive Order 13045 Protection of Children From Environmental Health Risks and Safety Risks; Executive Order 14096 Revitalizing Our Nation's Commitment to Environmental Justice for All.

Authority: 23 U.S.C. 139(l)(1).

Ralph J. Rizzo,
FHWA Division Administrator, Olympia, WA.

[FR Doc. 2024-20662 Filed 9-11-24; 8:45 am]

BILLING CODE 4910-RY-P